DEPARTMENT OF COMMERCE

National Oceanic and Atmospheric Administration

[RIN 0648-BI58]

Extension of Public Comment on a Supplemental Draft Environmental Impact Statement Regarding the Makah Tribe's Request To Hunt Eastern North Pacific Gray Whales

AGENCY: National Marine Fisheries Service (NMFS), National Oceanic and Atmospheric Administration (NOAA), Commerce.

ACTION: Notice; extension of public comment period.

SUMMARY: NMFS announces the extension of the public comment period on the Supplemental Draft Environmental Impact Statement on the Makah Tribe Request to Hunt Gray Whales. We announced a 45-day comment period to end on August 15, 2022. Today, we extend the public comment period on the recommended decision by 60 days to October 14, 2022. Comments previously submitted need not be resubmitted.

DATES: The deadline for the receipt of comments is extended from August 15, 2022 until October 14, 2022.

ADDRESSES: You may submit comments, identified by NOAA-NMFS-2012-0104-0454, by any of the following methods:

Electronic Submissions: Submit all electronic public comments via the Federal eRulemaking Portal http://www.regulations.gov.

Email: Submit electronic public comments via the following NMFS email address: makah2022sdeis.wcr@noaa.gov.

Mail: Submit written comments to: Grace Ferrara, NMFS West Coast Region, 7600 Sand Point Way NE, Seattle, WA 98115.

Instructions: All comments received are a part of the public record and will generally be posted to http://www.regulations.gov without change. All Personal Identifying Information (for example, name, address, etc.) voluntarily submitted by the commenter may be publicly accessible. Do not submit Confidential Business Information or otherwise sensitive or protected information.

NMFS will accept anonymous comments (enter N/A in the required fields, if you wish to remain anonymous). You may submit attachments to electronic comments in Microsoft Word, Excel, WordPerfect, or Adobe PDF file formats only.

FOR FURTHER INFORMATION CONTACT: Grace Ferrara, NMFS Northwest Region, (206) 526-6172, makah2022sdeis.wcr@noaa.gov.

SUPPLEMENTARY INFORMATION: On July 1, 2022, NMFS issued a Supplemental Draft Environmental Impact Statement (SDEIS) regarding the Makah Tribe's request to resume ceremonial and subsistence harvest of eastern North Pacific gray whales, and announced a 45-day comment period on the SDEIS. During the comment period, we received a request to extend the public comment period. We considered the request and agree to extend the public comment period by 60 days. We are therefore extending the close of the public comment period from August 15, 2022, to October 14, 2022.

The SDEIS is available in electronic form on the internet at the following address: https://www.fisheries.noaa.gov/west-coast/marine-mammal-protection/makah-tribal-whale-hunt. In addition, copies of the SDEIS are available on CD by contacting Grace Ferrara (see FOR FURTHER INFORMATION CONTACT).

Dated: August 11, 2022.
Kimberly Damon-Randall,
Director, Office of Protected Resources, National Marine Fisheries Service.

[FR Doc. 2022-17620 Filed 8-15-22; 8:45 am]

BILLING CODE 3510-22-P